DEPARTMENT OF THE INTERIOR

Bureau of Land Management

[WY-920-1320-EL, WYW172929]

Notice of Invitation for Coal Exploration License Application Wyoming; Correction

AGENCY: Bureau of Land Management, Interior.

ACTION: Notice of invitation for coal exploration license application, Jacobs Ranch Coal Company, WYW172929, Wyoming; correction.

SUMMARY: The Bureau of Land Management published in the Federal Register of August 18, 2006, (71 FR 47826) a notice inviting all interested parties to participate with Jacobs Ranch Coal Company on a pro rata cost sharing basis in its program for the exploration of coal deposits owned by the United States of America. Inadvertently, the following lands included in the exploration license application were omitted from the notice.

T. 44 N., R. 70 W., 6th P.M. Wyoming

Sect 22: Lots 1-3, 5-10, 12-15.

SUPPLEMENTARY INFORMATION: Any party electing to participate in this exploration program must send written notice to both the Bureau of Land Management and Jacobs Ranch Coal Company no later than thirty days after publication of this invitation in the Federal Register.

August 21, 2006.
Alan Rabinoff,
Deputy State Director, Minerals and Lands.

[FR Doc. 06-7430 Filed 9-5-06; 8:45 am]

BILLING CODE 4310-22-M